DEPARTMENT OF COMMERCE

National Oceanic and Atmospheric Administration

RIN: 0648-XR21

South Atlantic Fishery Management Council; Public Meetings

AGENCY: National Marine Fisheries Service (NMFS), National Oceanic and Atmospheric Administration (NOAA), Commerce.

ACTION: Notice of public meetings.

SUMMARY: The South Atlantic Fishery Management Council (Council) will hold Meetings of its Limited Access Privilege Program (LAPP) Committee, Spiny Lobster Committee, Mackerel Committee, a joint meeting of its Executive and Finance Committees, Law Enforcement Committee, Snapper Grouper Committee, joint Ecosystem-Based Management and Habitat Committees, Golden Crab Committee, and Dolphin Wahoo Committee, and a meeting of the full Council. There will also be a swearing in of new Council members. The Council will hold an informal public question and answer session with NMFS Regional Administrator and Council Chairman as well as open public comment periods relative to agenda items. See SUPPLEMENTARY INFORMATION for additional details.

DATES: The meeting will be held September 14 - 18, 2009. See SUPPLEMENTARY INFORMATION for specific dates and times.

ADDRESSES: The meeting will be held at the Charleston Marriott, 170 Lockwood Boulevard, Charleston, SC 29403; telephone: (800) 968-3569 or (843) 723-3000; fax: (843) 266-1479. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

Swearing In of New Council Members: September 14, 2009, 1:30 p.m. - 1:45 p.m.

1. LAPP Committee Meeting: September 14, 2009, 1:45 p.m. until 4 p.m.

The LAPP Committee will receive presentations, discuss Amendment 20 to the Snapper Grouper Fishery Management Plan (FMP) addressing the South Atlantic wreckfish fishery, and receive an update on Amendment 5 to the Golden Crab FMP addressing LAPPs.

2. Spiny Lobster Committee Meeting: September 14, 2009, 4 p.m. until 5 p.m.

The Spiny Lobster Committee will review recommendations from the Coral Advisory Panel and discuss Amendment 10 to the Spiny Lobster FMP.

3. Mackerel Committee: September 15, 2009, 8:30 a.m. until 10:30 a.m.

The Mackerel Committee will review recommendations from the King and Spanish Mackerel Advisory Panel and discuss Amendment 18 to the FMP for Coastal Migratory Pelagic Resources in the Gulf of Mexico and South Atlantic Region.

4. Joint Executive and Finance Committees Meeting: September 15, 2009, 10:30 a.m. until 12 Noon

The Committees will review Calendar Year Activities schedule and budget for 2009, receive an update on the status of the Fiscal Year 2010 Congressional budget and review year 2010 of the five-year grant proposed activities schedule and budget.

5. Law Enforcement Committee Meeting: September 15, 2009, 1:30 p.m. until 3 p.m.

The Law Enforcement Committee will review recommendations from the Law Enforcement Advisory Panel, discuss development of a law enforcement officer of the year award, develop recommendations on a format for law enforcement reporting of violations the Council would like to see, and discuss other issues as appropriate.

6. Snapper Grouper Committee Meeting: September 15, 2009, 3 p.m. until 5 p.m., and September 16, 2009, 8:30 a.m. until 5 p.m.

The Snapper Grouper Committee will receive updates on research and outreach associated with the Oculina Bank protected areas, the status of the red snapper interim rule request to close the fishery to help address overfishing, presentations of red snapper rebuilding projections, economic impacts of proposed red snapper management measures to the commercial sector, and review recommendations from the Snapper Grouper Advisory Panel. The Committee will review draft Amendment 17A to the Snapper Grouper FMP addressing red snapper management and Amendment 17B addressing overfishing for nine other species, and develop recommendations for taking the amendments out to public hearings. The Committee will also review draft Amendment 18 to the Snapper Grouper FMP with several measures addressing snapper grouper management, including extension of the fishery management unit northward, as well as Amendment 20 to the FMP addressing changes to the wreckfish fishery, and provide direction to staff. The Committee will discuss and develop recommendations regarding the draft Comprehensive Annual Catch Limit (ACL) Amendment as well as a Fishery Independent Monitoring Workshop.

Note: There will be an informal public question and answer session with NOAA Fisheries Services' Regional Administrator and the Council Chairman, on September 16, 2009 beginning at 5:30 p.m.

7. Joint Ecosystem-Based Management and Habitat Committees Meeting: September 17, 2009, 8:30 a.m. until 10 a.m.

The Committees will review the Draft Environmental Impact Statement comments for Comprehensive Ecosystem-Based Amendment 1 (CE-BA1) establishing Deepwater Coral Habitat Areas of Particular Concern in the South Atlantic region, revise the amendment as necessary, and provide recommendations of approval of CE-BA1 for submission to the Secretary of Commerce. The Committees will also review the Proposed Rule for CE-BA1 and deem it as appropriate. The Committee will review Comprehensive Ecosystem-Based Amendment 2 (CE-BA2) addressing coral management and provide guidance to staff.

8. Golden Crab Committee Meeting: September 17, 2009, 10 a.m. until 11 a.m.

The Golden Crab Committee will review catch share recommendations from fishermen and receive an update on Amendment 5 to the Golden Crab FMP.

9. Dolphin Wahoo Committee Meeting: September 17, 2009, 11 a.m. until 12 Noon

The Dolphin Wahoo Committee (consisting of all Council members) will review recommendations from the Dolphin Wahoo Advisory Panel, receive a presentation on dolphin and wahoo landings, and develop recommendations for the Comprehensive ACL Amendment.

10. Council Session: September 17, 2009, 1:30 p.m. until 6:30 p.m. and September 18, 2009, 8:30 a.m. until 12 Noon

Council Session: September 17, 1:30 p.m. until 6:30 p.m.

From 1:30 p.m. - 2 p.m., the Council will call the meeting to order, adopt the agenda, and approve the June 2009 meeting minutes.

Note: Interested persons will be provided the opportunity to present oral or written statements regarding matters on the Council agenda beginning at 2 p.m. on Thursday on Thursday, September 17, 2009.

On Thursday, September 17, 2009 at 3 p.m., the Council will take public comment regarding Comprehensive Ecosystem-Based Amendment 1 .

From 3 p.m. - 3:30 p.m., the Council will receive a report from the Joint Ecosystem-Based Management and Habitat Committees, approve Comprehensive Ecosystem-Based Amendment 1 for submission to the Secretary of Commerce, and consider other committee recommendations and take action as appropriate.

From 3:30 p.m. - 4 p.m., the Council will receive an update on the Atlantic Sea Turtle Strategy.

From 4 p.m. - 4:30 p.m., the Council will receive an update on the National Marine Protected Area Program.

From 4:30 p.m. - 5:30 p.m., the Council will receive a presentation on Draft Amendment 3 to the Consolidated Atlantic Highly Migratory Species FMP and an update on the swordfish exempted fishery.

From 5:30 p.m. - 6 p.m., the Council will receive report from the Snapper Grouper Committee and take action as appropriate.

From 6 p.m. - 6:15 p.m., the Council will receive a report from the Joint Executive and Finance Committees and take action as appropriate.

From 6:15 p.m. - 6:30 p.m., the Council will receive legal briefing on litigation (CLOSED SESSION)

Council Session: September 18, 2009, 8:30 a.m. until 12 Noon

From 8:30 a.m. - 8:45 a.m., the Council will receive a report from the LAPP Committee and take action as appropriate.

From 8:45 a.m. - 9 a.m., the Council will receive a report from the Golden Crab Committee and take action as appropriate.

From 9 a.m. - 9:15 a.m., the Council will receive a report from the Dolphin Wahoo Committee and take action as appropriate.

From 9:15 a.m. - 9:30 a.m., the Council will receive a report from the Spiny Lobster Committee and take action as appropriate.

From 9:30 a.m. - 9:45 a.m., the Council will receive a report from the Mackerel Committee and take action as appropriate.

From 9:45 a.m. - 10 a.m., the Council will receive a report from the Law Enforcement Committee and take action as appropriate.

From 10 a.m. - 10:15 a.m., the Council will receive a status report from NOAA Fisheries Service on commercial quotas by fishing year for: Atlantic king mackerel, Gulf king Mackerel (eastern zone), Atlantic Spanish mackerel, snowy grouper, golden tilefish, wreckfish, greater amberjack, South Atlantic Octocorals and dolphin (soft quota ratios), vermilion snapper, black sea bass, red porgy and gag. The Council will also receive a status report of Snapper Grouper Amendment 16, Protected Species Issues, VMS Compliance report from Law Enforcement, and review and develop recommendations on Experimental Fishing Permits as necessary.

From 10:15 a.m. - 10:45 a.m., the Council will receive status reports from NMFS Southeast Fisheries Science Center on the Data Collection and Stock Assessment Improvement Plans, a progress report on aging red and black grouper, 2007 and 2008 headboat data entry, and the status of recreational catches versus allocations where appropriate of the following species: Atlantic king mackerel and Spanish mackerel, black sea bass, golden tilefish, snowy grouper, red porgy, greater amberjack, dolphin, wahoo, cobia, vermilion snapper, gag, red snapper, mutton snapper, and yellowtail snapper.

From 10:45 a.m. - 12 Noon, the Council will receive agency and liaison reports, discuss other business and upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 11, 2009.

Dated: August 24, 2009.
Tracey L. Thompson,
Acting Director, Office of Sustainable Fisheries, National Marine Fisheries Service.

[FR Doc. E9-20709 Filed 8-27-09; 8:45 am]

BILLING CODE 3510-22-S